NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by November 25, 2009. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application No. 2010-019

1. Applicant: Louis L. Jacobs, Earth Sciences, Southern Methodist University, Dallas, TX 75275.

Activity for Which Permit Is Requested

Take. The applicant plans collect primarily the skulls and humerus or femur, with soft tissue, from seal mummies of all species on an opportunistic basis. The specimens collected would be radiocarbon dated and sampled for organochlorines in residual lipids in the long bones. The remainder of the samples will be housed in the Southern Methodist Univeristy's Shuler Museum of Paleontology. The samples will provide time context for ecological interpretation of stable isotopes and the history of pollution in this portion of Antarctica.

Location

Seymour Island, Antarctic Peninsula and nearby locations.

Dates

November 1, 2009 to December 31, 2009.

Nadene G. Kennedy,
Permit Officer, Office of Polar Programs.

[FR Doc. E9-25567 Filed 10-23-09; 8:45 am]

BILLING CODE 7555-01-P